DEPARTMENT OF COMMERCE

International Trade Administration

[A-552-801]

Certain Frozen Fish Fillets From the Socialist Republic of Vietnam: Partial Rescission and Notice of Intent To Rescind, in Part, and Partial Extension of Time Limit for Preliminary Results of the Third Antidumping Duty Administrative Review

AGENCY: Import Administration, International Trade Administration, Department of Commerce

DATES: Effective Date: March 12, 2007.

SUMMARY: The Department of Commerce (“Department”) is partially rescinding the administrative review with respect to 38 companies, for which it received timely withdrawal requests for review for the antidumping duty order on certain frozen fish fillets from the Socialist Republic of Vietnam (“Vietnam”). The period of review (“POR”) covers August 1, 2005, through July 31, 2006. A complete list of the companies for which the administrative review is being rescinded is provided in the “Partial Rescission” section below. Furthermore, because nine companies reported that they had no sales or shipments to the United States during the POR, we intend to rescind the review of these companies. Additionally, for the reasons discussed below, the Department is partially extending the preliminary results of this administrative review by an additional 90 days, to no later than August 1, 2007.

FOR FURTHER INFORMATION CONTACT: Cindy Robinson or Michael Holton, AD/CVD Operations, Office 9, Import Administration, International Trade Administration, U.S. Department of Commerce, 14th Street and Constitution Avenue, NW., Washington, DC 20230; telephone: (202) 482-3797 and (202) 482-1324, respectively.

SUPPLEMENTARY INFORMATION:

Background

On August 1, 2006, the Department published a notice of an opportunity to request an administrative review on the antidumping duty order on certain frozen fish fillets from Vietnam. See Antidumping or Countervailing Duty Order, Finding, or Suspended Investigation; Notice of Opportunity To Request Administrative Review, 71 FR 43441 (August 1, 2006) (“Notice of Opportunity”); Notice of Antidumping Duty Order: Certain Frozen Fish Fillets from the Socialist Republic of Vietnam, 68 FR 47909 (August 12, 2003) (“Order”). Pursuant to its Notice of Opportunity, and in accordance with section 751(a)(1)(B) of the Tariff Act of 1930, as amended (“the Act”), and section 351.213(b) of the Department's regulations, on August 31, 2006, the Department received a joint request from the Catfish Farmers of America and individual U.S. catfish processors (collectively, “Petitioners”) for a review covering 51 exporters/manufacturers. These exporters/manufacturers are: Alphasea Co., Ltd. (“Alphasea”); An Giang Agriculture and Foods Import Export Company (“Afiex”); An Giang Agriculture Technology Service Company (“ANTESCO”); An Giang Fisheries Import and Export Joint Stock Company (“Agifish”); An Lac Seafood Co., Ltd.; (“An Lac”); ANHACO; Bamboo Food Co., Ltd.; Basa Co., Ltd.; Ben Tre Forestry and Aquaproduct Import-Export Company (“FAQUIMEX”); Binh Dinh Import Export Company (“Imex Binhdinh”); Blue Sky Co., Ltd.; Cam Ranh Seafood Processing Seaprodex Company (“Cam Ranh”); Can Tho Agricultural and Animal Products Import Export Company (“CATACO”); Cantho Seafood Export (“CASEAFOOD”); Can Tho Animal Fishery Products Processing Export Enterprise (“Cafatex”); Da Nang Seaproducts Import-Export Corporation (“Seaprodex Danang”); Dragon Waves Frozen Food Factory Co. (“Dragon”); Duyen Hai Foodstuffs Processing Factory (“COSEAFEX”); Geologistics Ltd.; Gepimex 404 Company; Hai Thach Trading Services Co., Ltd.; Hai Vuong Co., Ltd.; Hung Vuong Co., Ltd.; Kien Giang Ltd.; Mekongfish Company (aka Mekong Fisheries Joint Stock Company) (“Mekonimex”); Nam Duong Co., Ltd. (aka KP Khanh Loi or Nam Duong Trading Co.); Nam Hai Co., Ltd.; Nam Viet Company Limited (“NAVICO”); Nhan Hoa Co., Ltd.; Phan Quan Trading Co., Ltd.; Phu Thanh Frozen Factory; Phu Thuan Company; Phuoc My Seafoods Processing Factory; Phuong Dong Seafood Co., Ltd.; Quang Dung Food Co., Ltd.; QVD; QVD Dong Thap Food Co., Ltd.; Sadec Aquatic Products Import Enterprise (“DOCIFISH”); Thanh Viet Co. Ltd.; Thuan Hung Co., Ltd.; Tin Thinh Co. Ltd.; Tuan Anh Company Limited; United Seafood Packers Co., Ltd.; Van Duc Foods Export Joint Stock Co.; Viet Hai Seafood Company Limited (“Vietnam Fish-One”); Vinh Hiep Co., Ltd.; Vinh Hoan Company, Ltd. (“Vinh Hoan”); Vinh Long Import-Export Company (“Imex Cuu Long”); VN Seafoods Co., Ltd.; Lian Heng Investment Co., Ltd. and Lian Heng Trading Co., Ltd. (collectively “Lian Heng”). Additionally, on August 31, 2006, the following four exporters/manufacturers separately requested a review: CASEAMEX; East Sea Seafoods Joint Venture Co., Ltd. (“East Sea”); ¹ QVD; and Vinh Hoan.² No other interested party requested a review.

¹ On August 31, 2006, East Sea also separately requested a new shipper review (“NSR”), but it withdrew its NSR request on November 13, 2006. The Department rescinded East Sea's NSR request on January 23, 2007. See Certain Frozen Fish Fillets from the Socialist Republic of Vietnam: Notice of Rescission of Antidumping Duty New Shipper Review, 72 FR 2857 (January 23, 2007).

² On August 29, 2006, H & N Foods International (“H & N”), a U.S.-based importer of the merchandise subject to this administrative review, also requested that the Department conduct an administrative review of H & N's entries of subject merchandise produced and exported by Vinh Hoan.

On September 29, 2006, the Department published its notice of initiation of an antidumping administrative review on certain frozen fish fillets from Vietnam. See Notice of Initiation of Antidumping and Countervailing Duty Administrative Reviews, 71 FR 57465 (September 29, 2006) (“Initiation Notice”). We initiated the review covering all 53 companies for which an administrative review was requested.

Withdrawal of Requests for Review

On October 25, 2006, CASEAMEX withdrew its request for an administrative review. On December 8, 2006, Vinh Hoan withdrew its request for an administrative review.³ On December 26, 2006, H & N withdrew its request for the review of its entries of subject merchandise produced and exported by Vinh Hoan. Also on December 26, 2006, Petitioners withdrew their request for the instant administrative review with respect to the following 37 exporters/manufacturers: Alphasea; Afiex; ANTESCO; Agifish; An Lac; ANHACO; Bamboo Food Co., Ltd.; Basa Co., Ltd.; Imex Binhdinh; Blue Sky Co., Ltd.; Cam Ranh; CASEAFOOD; Cafatex; Seaprodex Danang; Dragon; COSEAFEX; Geologistics Ltd.; Gepimex 404 Company; Hai Thach Trading Services Co., Ltd.; Hai Vuong Co., Ltd.; Kien Giang Ltd.; Mekonimex; Nam Duong Co., Ltd.; Nam Hai Co., Ltd.; Nhan Hoa Co., Ltd.; Phan Quan Trading Co., Ltd.; Phu Thanh Frozen Factory; Phuoc My Seafoods Processing Factory; Phuong Dong Seafood Co., Ltd.; Quang Dung Food Co., Ltd.; Thanh Viet Co. Ltd.; Tin Thinh Co. Ltd.; Tuan Anh Company Limited; Vinh Hiep Co., Ltd.; Vinh Hoan; Imex Cuu Long; and VN Seafoods Co., Ltd.

³ Petitioners did not object to CASEAMEX's and Vinh Hoan's withdrawal requests. In fact, Petitioners included Vinh Hoan in its withdrawal request dated December 26, 2006.

Additionally, on December 27, 2006, Petitioners withdrew their review request for another exporter/manufacturer: QVD. However, we are not rescinding the review with respect to QVD because QVD still has an active review request.

Accordingly, for 38 of the 53 companies for which the Department initiated a review, the Department subsequently received timely withdrawal requests.

Quantity and Value (“Q&V”) Submission, and Separate-Rate Application/Certification

On October 12, 2006, the Department issued a quantity and value (“Q&V”) questionnaire to the 53 named companies, requesting the Q&V of subject merchandise exported during the POR. In the same letter, the Department also provided information for respondents wishing to submit a Separate-Rate Application or Separate-Rate Certification.⁴ On November 3, 2006, the Department issued a letter to those companies that had not submitted a Q&V response granting them a second opportunity to submit the Q&V of any exports of subject merchandise to the United States during the POR by November 17, 2006.⁵

⁴ See Letter with Attachments from Alex Villanueva, Program Manager, to All Interested Parties (October 12, 2006). The Q&V questionnaire response was originally due on October 26, 2006. The due date for the Separate-Rate Application was December 11, 2006, and the due date for the Separate-Rate Certification was November 11, 2006.

⁵ See Letter with Attachments from Alex Villanueva, Program Manager, to All Interested Parties (November 3, 2006). In the letter, the Department also extended the deadline to submit the Separate-Rate Certification from November 11, 2006, to December 11, 2006, which coincided with the deadline for the Separate-Rate Application.

Between October 19, 2006, and November 17, 2006, the Department received Q&V questionnaire responses from the following 17 companies: Alphasea; Agifish; FAQUIMEX; Seaprodex Da Nang; East Sea; Hung Vuong Co., Ltd.; NAVICO; Phu Thuan Company; QVD; DOCIFISH; Thanh Viet Co. Ltd.; Thuan Hung Co., Ltd.; United Seafood Packers Co., Ltd.; Van Duc Foods Export Joint Stock Co.; Vietnam Fish-One; Vinh Hoan; and Lian Heng. Of the 17 companies, the following nine companies stated that they did not have sales, shipments, or entries of the subject merchandise to the United States during the POR: FAQUIMEX; Hung Vuong Co., Ltd.; NAVICO; Phu Thuan Company; DOCIFISH; ⁶ Thuan Hung Co., Ltd.; United Seafood Packers Co., Ltd.; Van Duc Foods Export Joint Stock Co.; and Vietnam Fish-One.

⁶ Phu Thuan and DOCIFISH did not file their Q&V responses correctly. After we examined entry data furnished by CBP for these exporters/manufacturers, we were satisfied that the record does not indicate that there were U.S. entries of subject merchandise from these companies during the POR. The Department placed the Q&V submissions from Phu Thuan and DOCIFISH on the record and notified the interested parties on the service list that these two no-shipment companies did not properly file their submissions and did not properly serve interested parties. In addition, Alphasea also did not file its response properly. On November 22, 2006, the Department issued a letter to Alphasea rejecting its Q&V due to filing deficiency and notifying it to resubmit its Q&V questionnaire response by December 1, 2006. Alphasea resubmitted its Q&V questionnaire response on December 1, 2006.

In addition, between November 8, 2006, and December 11, 2006, we received five Separate-Rate Certifications from the following companies: Agifish; QVD; Seaprodex Danang; Thuan Hung Co., Ltd.; and Vinh Hoan, and a Separate-Rate Status Application from East Sea.

In Petitioners' December 26, 2006, letter, in addition to submitting withdrawal requests for 37 exporters/manufacturers, Petitioners also submitted comments regarding respondent selection. Specifically, Petitioners requested that the Department conduct a review of the entries of subject merchandise during the POR for the remaining 15 companies.⁷ In addition, Petitioners requested that the Department corroborate the shipment information for those companies claiming no shipments with the entry information available from U.S. Customs and Border Protection (“CBP”).

⁷ In addition to Petitioners, withdrawal requests for review 37 companies, CASEAMEX also withdrew its request for review. With 38 companies withdrawn from the review, there are 15 remaining companies: FAQUIMEX; CATACO; East Sea; Hung Vuong Co. Ltd.; NAVICO; Phu Thuan Company; QVD; QVD Dong Thap Food Co., Ltd.; DOCIFISH; Thuan Hung Co., Ltd.; United Seafood Packers Co., Ltd.; Van Duc Foods Export Joint Stock Co.; Vietnam Fish-One; and Lian Heng (which conisists of Lian Heng Investment Co., Ltd and Lian Heng Trading Co., Ltd.).

Partial Rescission

Pursuant to section 351.213(d)(1) of the Department's regulations, the Department may rescind an administrative review, “if a party who requested the review withdraws the request within 90 days of the date of publication of notice of initiation of the requested review.”

Because Petitioners' and certain Respondent requests were timely, in accordance with section 351.213(d)(1) of the Department's regulations, we are rescinding this review with respect to the following 38 companies: Alphasea; Afiex; ANTESCO; Agifish; An Lac; ANHACO; Bamboo Food Co., Ltd.; Basa Co., Ltd.; Imex Binhdinh; Blue Sky Co., Ltd.; Cam Ranh; CASEAFOOD; Cafatex; CASEAMEX; Seaprodex Danang; Dragon; COSEAFEX; Geologistics Ltd.; Gepimex 404 Company; Hai Thach Trading Services Co., Ltd.; Hai Vuong Co., Ltd.; Kien Giang Ltd.; Mekonimex; Nam Duong Co., Ltd.; Nam Hai Co., Ltd.; Nhan Hoa Co., Ltd.; Phan Quan Trading Co., Ltd.; Phu Thanh Frozen Factory; Phuoc My Seafoods Processing Factory; Phuong Dong Seafood Co., Ltd.; Quang Dung Food Co., Ltd.; Thanh Viet Co. Ltd.; Tin Thinh Co. Ltd.; Tuan Anh Company Limited; Vinh Hiep Co., Ltd.; Vinh Hoan; Imex Cuu Long; and VN Seafoods Co., Ltd.

Intent to Rescind

Additionally, nine of the remaining 15 companies indicated no shipments, entries, or sales of the subject merchandise to the United States during the POR. Pursuant to 19 CFR 351.213(d)(3) of the Department's regulations, the Department may rescind an administrative review, “to a particular exporter or producer, if the Secretary concludes that, during the period covered by the review, there were no entries, exports, or sales of the subject merchandise, as the case may be.” We examined entry data furnished by CBP for these nine exporters/manufacturers, and are satisfied that the record does not indicate that there were U.S. entries of subject merchandise from these nine companies during the POR. Accordingly, we intend to rescind this review with respect to the following nine companies: FAQUIMEX; Hung Vuong Co., Ltd.; NAVICO; Phu Thuan Company; DOCIFISH; Thuan Hung Co., Ltd.; United Seafood Packers Co., Ltd.; Van Duc Foods Export Joint Stock Co.; and Vietnam Fish-One.

After the partial rescission of 38 companies and the intent to rescind on nine companies, six companies remain in this review: CATACO; East Sea; Lian Heng (including Lian Heng Investment Co., Ltd., and Lian Heng Trading Co., Ltd.); QVD; and QVD Dong Thap Food Co., Ltd.

Assessment Rates

The Department will instruct CBP to assess antidumping duties on all appropriate entries. For those companies for which this review has been rescinded, antidumping duties shall be assessed at rates equal to the cash deposit of estimated antidumping duties required at the time of entry, or withdrawal from warehouse, for consumption, during the POR in accordance with 19 CFR 351.212(c)(1)(i). The Department will issue appropriate assessment instructions directly to CBP within 15 days of publication of this notice.

Extension of Time Limit for Preliminary Results

On January 16, 2007, Petitioners submitted a timely request for a 120-day extension of the preliminary results of this review.⁹ On January 19, 2007, East Sea argued that an extension of 120 days is not warranted and would be unfair to respondents and, therefore, requested that the Department extend the preliminary results deadline by 30 days, and in no case more than 60 days. The preliminary results of this administrative review are currently due no later than May 3, 2007.

⁹ In their January 16, 2007, letter, Petitioners also requested that the Department extend the deadline for the submission of new factual information by 60 days, or until March 19, 2007. On February 8, 2007, the Department issued a letter to all interested parties, providing all interested parties the opportunity to provide any comments on the Department's surrogate country selection, and to submit any information which they believe the Department should consider when valuing factors of production in this review. The due date for submitting such information is March 19, 2007.

Pursuant to section 751(a)(3)(A) of the Tariff Act of 1930, as amended (“Act”), the Department shall issue preliminary results in an administrative review of an antidumping duty order within 245 days after the last day of the anniversary month of the date of publication of the order. The Act further provides, however, that the Department may extend that 245-day period to 365 days if it determines it is not practicable to complete the review within the foregoing time period.

The Department finds that it is not practicable to complete the preliminary results in the administrative review of certain frozen fish fillets from Vietnam within the current time limit. Specifically, it is necessary to extend the deadline of the preliminary results because: (1) The Department was only recently able to select the respondents for this review, on January 5, 2007; (2) the Department will need time to collect and analyze questionnaire responses for all mandatory respondents ¹⁰ and the non-mandatory respondent, Lian Heng,¹¹ and issue supplemental questionnaires where necessary; and (3) the Department needs additional time to analyze the responses of companies who submitted Separate Rate Certifications/Applications. Accordingly, the Department finds that additional time is needed in order to complete these preliminary results.

¹⁰ On January 5, 2007, the Department selected the following two companies as mandatory respondents: QVD and East Sea. See Letter from Alex Villanueva, Program Manager, to All Interested Parties (Selection of Respondents) (January 5, 2007).

¹¹ Lian Heng is a Cambodian company subject to this review pursuant to Circumvention and Scope Inquiries on the Antidumping Duty Order on Certain Frozen Fish Fillets from the Socialist Republic of Vietnam: Partial Affirmative Final Determination of Circumvention of the Antidumping Duty Order, Partial Final Termination of Circumvention Inquiry and Final Rescission of Scope Inquiry, 71 FR 38608 (July 7, 2006).

On October 25, 2006, Lian Heng submitted a letter to the Department arguing that it was inappropriate for Lian Heng to respond to the Q&V questionnaire response because its exports of frozen fish fillets are products of Cambodia, not Vietnam, and therefore, Lian Heng claimed that responding to the questionnaire would seem to contradict the country of origin. On November 6, 2006, the Department issued a letter to Lian Heng, rejecting Lian Heng's October 25, 2006, arguments, and granted Lian Heng a second opportunity to submit its Q&V by November 17, 2006. Lian Heng submitted its Q&V response on November 17, 2006.

Section 751(a)(3)(A) of the Act and section 351.213(h)(2) of the Department's regulations allow the Department to extend the deadline for the preliminary results to a maximum of 365 days from the last of the anniversary month of the order. For the reasons noted above, we are partially extending the time for the completion of the preliminary results of this review by 90 days until no later than August 1, 2007. The deadline for the final results of the administrative review continues to be 120 days after the publication of the preliminary results.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

Notification Regarding APOs

This notice also serves as a reminder to parties subject to administrative protective order (“APO”) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(2)(c) and 777(i)(1) of the Act.

Dated: March 2, 2007.
Gary S. Taverman,
Acting Deputy Assistant Secretary for Import Administration.

[FR Doc. 07-1134 Filed 3-9-07; 8:45 am]

BILLING CODE 3510-DS-P